DEPARTMENT OF TRANSPORTATION

Federal Aviation Administration

14 CFR Part 39

[Docket No. FAA-2013-0380; Directorate Identifier 2012-SW-067-AD]

RIN 2120-AA64

Airworthiness Directives; Robinson Helicopter Company (Robinson)

AGENCY: Federal Aviation Administration (FAA), DOT.

ACTION: Notice of proposed rulemaking (NPRM).

SUMMARY: We propose to adopt a new airworthiness directive (AD) for Model R22, R22 Alpha, R22 Beta, and R22 Mariner helicopters with certain fuel shut-off valves installed. This proposed AD would require replacing the fuel shut-off valve with a newer design fuel shut-off valve. This proposed AD is prompted by three accidents that occurred because the fuel shut-off valve was inadvertently moved to the “off” position. The proposed actions are intended to prevent inadvertent closing of the fuel valve, which could result in engine power loss and subsequent loss of control of the helicopter.

DATES: We must receive comments on this proposed AD by June 24, 2013.

ADDRESSES: You may send comments by any of the following methods:

• Federal eRulemaking Docket: Go to http://www.regulations.gov. Follow the online instructions for sending your comments electronically.

• Fax: 202-493-2251.

• Mail: Send comments to the U.S. Department of Transportation, Docket Operations, M-30, West Building Ground Floor, Room W12-140, 1200 New Jersey Avenue SE., Washington, DC 20590-0001.

• Hand Delivery: Deliver to the “Mail” address between 9 a.m. and 5 p.m., Monday through Friday, except Federal holidays.

Examining the AD Docket

You may examine the AD docket on the Internet at http://www.regulations.gov or in person at the Docket Operations Office between 9 a.m. and 5 p.m., Monday through Friday, except Federal holidays. The AD docket contains this proposed AD, the economic evaluation, any comments received, and other information. The street address for the Docket Operations Office (telephone 800-647-5527) is in the ADDRESSES section. Comments will be available in the AD docket shortly after receipt.

For service information identified in this proposed AD, contact Robinson Helicopter Company, 2901 Airport Drive, Torrance, CA 90505; telephone (310) 539-0508; fax (310) 539-5198; or at http://www.robinsonheli.com/servelib.htm. You may review the referenced service information at the FAA, Office of the Regional Counsel, Southwest Region, 2601 Meacham Blvd., Room 663, Fort Worth, Texas 76137.

FOR FURTHER INFORMATION CONTACT: Danny Nguyen, Aerospace Engineer, Los Angeles Aircraft Certification Office, Transport Airplane Directorate, FAA, 3960 Paramount Blvd., Lakewood, California 90712; telephone (562) 627-5247; email danny.nguyen@faa.gov.

SUPPLEMENTARY INFORMATION:

Comments Invited

We invite you to participate in this rulemaking by submitting written comments, data, or views. We also invite comments relating to the economic, environmental, energy, or federalism impacts that might result from adopting the proposals in this document. The most helpful comments reference a specific portion of the proposal, explain the reason for any recommended change, and include supporting data. To ensure the docket does not contain duplicate comments, commenters should send only one copy of written comments, or if comments are filed electronically, commenters should submit only one time.

We will file in the docket all comments that we receive, as well as a report summarizing each substantive public contact with FAA personnel concerning this proposed rulemaking. Before acting on this proposal, we will consider all comments we receive on or before the closing date for comments. We will consider comments filed after the comment period has closed if it is possible to do so without incurring expense or delay. We may change this proposal in light of the comments we receive.

Discussion

Three accidents have occurred with R22 helicopters because the lever-handle fuel valve was inadvertently moved to the “off” position before takeoff. Closing this valve will result in loss of power from the engine and subsequent loss of control of the helicopter. Robinson has subsequently re-designed the fuel valve with a smaller actuating handle and the valve spring loaded to the “on” position, to prevent inadvertent fuel shut-off.

FAA's Determination

We are proposing this AD because we evaluated all known relevant information and determined that an unsafe condition exists and is likely to exist or develop on other helicopters of the same type design.

Related Service Information

Robinson has issued R22 Service Bulletin SB-105, dated September 7, 2011 (SB-105), which specifies procedures to replace the lever handle fuel shut-off valve part number (P/N) A670-1 revision A through H with a fuel shut-off valve P/N A670-1 revision I or later.

Proposed AD Requirements

This proposed AD would require, within 3 years, removing the fuel shut-off valve, P/N A670-1 revision A through H, and replacing the valve with a newly designed fuel shut-off valve.

Differences Between This Proposed AD and the Service Information

SB-105 specifies compliance within 500 flight-hours or by August 31, 2012. The proposed AD would require compliance within 3 years.

Costs of Compliance

We estimate that this proposed AD would affect 1,282 helicopters of U.S. Registry. We estimate that operators may incur the following costs in order to comply with this AD. Replacing the fuel shut-off valve will require about 2 work-hours at an average labor rate of $85 per hour, and required parts would cost about $260, for a cost per helicopter of $430, and a total cost to U.S. operators of $551,260.

Authority for This Rulemaking

Title 49 of the United States Code specifies the FAA's authority to issue rules on aviation safety. Subtitle I, section 106, describes the authority of the FAA Administrator. “Subtitle VII: Aviation Programs,” describes in more detail the scope of the Agency's authority.

We are issuing this rulemaking under the authority described in “Subtitle VII, Part A, Subpart III, Section 44701: General requirements.” Under that section, Congress charges the FAA with promoting safe flight of civil aircraft in air commerce by prescribing regulations for practices, methods, and procedures the Administrator finds necessary for safety in air commerce. This regulation is within the scope of that authority because it addresses an unsafe condition that is likely to exist or develop on products identified in this rulemaking action.

Regulatory Findings

We determined that this proposed AD would not have federalism implications under Executive Order 13132. This proposed AD would not have a substantial direct effect on the States, on the relationship between the national Government and the States, or on the distribution of power and responsibilities among the various levels of government.

For the reasons discussed, I certify this proposed regulation:

1. Is not a “significant regulatory action” under Executive Order 12866;

2. Is not a “significant rule” under the DOT Regulatory Policies and Procedures (44 FR 11034, February 26, 1979);

3. Will not affect intrastate aviation in Alaska to the extent that it justifies making a regulatory distinction; and

4. Will not have a significant economic impact, positive or negative, on a substantial number of small entities under the criteria of the Regulatory Flexibility Act.

We prepared an economic evaluation of the estimated costs to comply with this proposed AD and placed it in the AD docket.

List of Subjects in 14 CFR Part 39

Air transportation, Aircraft, Aviation safety, Incorporation by reference, Safety.

The Proposed Amendment

Accordingly, under the authority delegated to me by the Administrator, the FAA proposes to amend 14 CFR part 39 as follows:

PART 39—AIRWORTHINESS DIRECTIVES

1. The authority citation for part 39 continues to read as follows:

Authority: 49 U.S.C. 106(g), 40113, 44701.

§ 39.13 [Amended]

2. The FAA amends § 39.13 by adding the following new airworthiness directive (AD):

Robinson Helicopter Company (Robinson): Docket No. FAA-2013-0380; Directorate Identifier 2012-SW-067-AD.

(a) Applicability

This AD applies to Model R22, R22 Alpha, R22 Beta, and R22 Mariner helicopters, serial number 0002 through 4271, with a fuel shut-off valve part-number (P/N) A670-1 revision A through H installed, certificated in any category.

(b) Unsafe Condition

This AD defines the unsafe condition as inadvertent closing of the fuel shut-off valve, which could result in loss of fuel to the engine, loss of engine power, and subsequent loss of control of the helicopter.

(c) Reserved

(d) Compliance

You are responsible for performing each action required by this AD within the specified compliance time unless it has already been accomplished prior to that time.

(e) Required Actions

(1) Within 3 years, remove the fuel shut-off valve and replace with an airworthy fuel shut-off valve that has a P/N other than a P/N listed in the applicability section of this AD.

(2) Do not install a fuel shut-off valve, P/N A670-1 revision A through H, on any helicopter.

(f) Alternative Methods of Compliance (AMOC)

(1) The Manager, Los Angeles Aircraft Certification Office, FAA, may approve AMOCs for this AD. Send your proposal to: Danny Nguyen, Aerospace Engineer, Los Angeles Aircraft Certification Office, Transport Airplane Directorate, FAA, 3960 Paramount Blvd., Lakewood, California 90712; telephone (562) 627-5247; email danny.nguyen@faa.gov.

(2) For operations conducted under a 14 CFR part 119 operating certificate or under 14 CFR part 91, subpart K, we suggest that you notify your principal inspector, or lacking a principal inspector, the manager of the local flight standards district office or certificate holding district office before operating any aircraft complying with this AD through an AMOC.

(g) Additional Information

Robinson R22 Service Bulletin SB-105, dated September 7, 2011, which is not incorporated by reference, contains additional information about the subject of this AD. For service information identified in this AD, contact Robinson Helicopter Company, 2901 Airport Drive, Torrance, CA 90505; telephone (310) 539-0508; fax (310) 539-5198; or at http://www.robinsonheli.com/servelib.htm. You may review a copy of information at the FAA, Office of the Regional Counsel, Southwest Region, 2601 Meacham Blvd., Room 663, Fort Worth, Texas 76137.

(h) Subject

Joint Aircraft Service Component (JASC) Code: 2823: Fuel Selector/Shut-Off Valve.

Issued in Fort Worth, Texas, on April 18, 2013.
Lance T. Gant,
Acting Manager, Rotorcraft Directorate, Aircraft Certification Service.

[FR Doc. 2013-09771 Filed 4-24-13; 8:45 am]

BILLING CODE 4910-13-P